DEPARTMENT OF ENERGY

Federal Energy Regulatory Commission

Combined Notice of Filings #1

Take notice that the Commission received the following electric rate filings:

Docket Numbers: ER10-2645-002.

Applicants: Baconton Power LLC.

Description: Notice of Non-Material Change in Status of Baconton Power LLC.

Filed Date: 4/9/18.

Accession Number: 20180409-5226.

Comments Due: 5 p.m. ET 4/30/18.

Docket Numbers: ER13-1069-006; ER12-2381-003; ER10-1484-017.

Applicants: MP2 Energy LLC, MP2 Energy NE LLC, Shell Energy North America (US), L.P.

Description: Notice of Non-Material Change in Status of MP2 Energy LLC, et. al.

Filed Date: 4/6/18.

Accession Number: 20180406-5203.

Comments Due: 5 p.m. ET 4/27/18.

Docket Numbers: ER16-341-002; ER16-343-002; ER16-645-002; ER10-2979-003.

Applicants: RE Astoria LLC, RE Astoria 2 LLC, RE Barren Ridge 1 LLC, California Power Holdings, LLC.

Description: Notice of Non-Material Change in Status of RE Astoria LLC, et al.

Filed Date: 4/6/18.

Accession Number: 20180406-5206.

Comments Due: 5 p.m. ET 4/27/18.

Docket Numbers: ER17-1742-001; ER17-311-001; ER13-2490-005.

Applicants: Hattiesburg Farm, LLC, SR South Loving LLC, Simon Solar Farm LLC.

Description: Notice of Non-Material Change in Status of Hattiesburg Farm, LLC, et. al.

Filed Date: 4/6/18.

Accession Number: 20180406-5208.

Comments Due: 5 p.m. ET 4/27/18.

Docket Numbers: ER18-974-001.

Applicants: NTE Carolinas, LLC.

Description: Tariff Amendment: amendment to 1 to be effective 4/1/2018.

Filed Date: 4/6/18.

Accession Number: 20180406-5175, 20180406-5210.

Comments Due: 5 p.m. ET 4/27/18.

Docket Numbers: ER18-1313-000.

Applicants: PJM Interconnection, L.L.C.

Description: Tariff Cancellation: Notice of Cancellation of Service Agreement No. 4702; Queue No. AA2-081 to be effective 5/21/2018.

Filed Date: 4/6/18.

Accession Number: 20180406-5148.

Comments Due: 5 p.m. ET 4/27/18.

Docket Numbers: ER18-1314-000.

Applicants: PJM Interconnection, L.L.C.

Description: § 205(d) Rate Filing: Revisions to Address Impacts of State Public Policies on the PJM Capacity Market to be effective 6/30/2018.

Filed Date: 4/9/18.

Accession Number: 20180409-5056.

Comments Due: 5 p.m. ET 4/30/18.

Docket Numbers: ER18-1315-000.

Applicants: Southwest Power Pool, Inc.

Description: § 205(d) Rate Filing: 2888R2 Arkansas Electric Cooperative Corp NITSA NOA Notice of Cancellation to be effective 1/1/2018.

Filed Date: 4/9/18.

Accession Number: 20180409-5063.

Comments Due: 5 p.m. ET 4/30/18.

Docket Numbers: ER18-1316-000.

Applicants: PJM Interconnection, L.L.C.

Description: § 205(d) Rate Filing: Amendment to 7 Service Agreements to reflect Assignment to MAIT to be effective 8/13/2004.

Filed Date: 4/9/18.

Accession Number: 20180409-5090.

Comments Due: 5 p.m. ET 4/30/18.

Docket Numbers: ER18-1317-000.

Applicants: ITC Midwest LLC, Interstate Power and Light Company.

Description: § 205(d) Rate Filing: Update to O&T Agreement Exhibits and Appendices to be effective 6/8/2018.

Filed Date: 4/9/18.

Accession Number: 20180409-5134.

Comments Due: 5 p.m. ET 4/30/18.

Docket Numbers: ER18-1318-000.

Applicants: Southern California Edison Company.

Description: § 205(d) Rate Filing: True-Up SGIA North Lancaster Solar Project SA No. 182 to be effective 6/9/2018.

Filed Date: 4/9/18.

Accession Number: 20180409-5136.

Comments Due: 5 p.m. ET 4/30/18.

Docket Numbers: ER18-1319-000.

Applicants: PJM Interconnection, L.L.C.

Description: § 205(d) Rate Filing: Original WMPA SA No. 5048; Queue No. AD1-062 to be effective 3/23/2018.

Filed Date: 4/9/18.

Accession Number: 20180409-5174.

Comments Due: 5 p.m. ET 4/30/18.

Docket Numbers: ER18-1320-000.

Applicants: Walleye Energy, LLC.

Description: § 205(d) Rate Filing: Reactive Power Tariff to be effective 12/31/9998.

Filed Date: 4/9/18.

Accession Number: 20180409-5179.

Comments Due: 5 p.m. ET 4/30/18.

Docket Numbers: ER18-1321-000.

Applicants: Calpine Mid-Merit II, LLC.

Description: Baseline eTariff Filing: Application for Market-Based Rate Tariff and Request for Waivers to be effective 4/10/2018.

Filed Date: 4/9/18.

Accession Number: 20180409-5192.

Comments Due: 5 p.m. ET 4/30/18.

Docket Numbers: ER18-1322-000.

Applicants: Foote Creek II, LLC.

Description: § 205(d) Rate Filing: Second Revised MBR Tariff to be effective 4/10/2018.

Filed Date: 4/9/18.

Accession Number: 20180409-5207.

Comments Due: 5 p.m. ET 4/30/18.

Docket Numbers: ER18-1323-000.

Applicants: Southwest Power Pool, Inc.

Description: § 205(d) Rate Filing: Revisions to Attachment AE to Add a Second Iteration to Monthly ARR Allocation to be effective 11/1/2018.

Filed Date: 4/9/18.

Accession Number: 20180409-5223.

Comments Due: 5 p.m. ET 4/30/18.

Docket Numbers: ER18-1324-000.

Applicants: Foote Creek III, LLC.

Description: § 205(d) Rate Filing: Second Revised MBR Tariff to be effective 4/10/2018.

Filed Date: 4/9/18.

Accession Number: 20180409-5239.

Comments Due: 5 p.m. ET 4/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2018.
Nathaniel J. Davis, Sr.,
Deputy Secretary.

[FR Doc. 2018-07879 Filed 4-13-18; 8:45 am]

BILLING CODE 6717-01-P